DEPARTMENT OF THE INTERIOR

Fish and Wildlife Service

[FWS-R9-FHC-2010-N211; 94140-1341-0000-N5]

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The ANS Task Force will meet from 8 a.m. to 5 p.m. on Wednesday, November 3 through Thursday, November 4, 2010.

ADDRESSES: The ANS Task Force meeting will take place at the Holiday Inn—Arlington at Ballston, 4610 N. Fairfax Drive, Arlington, VA 22203 (703-243-9800). You may inspect minutes of the meeting at the office of the Chief, Division of Fisheries and Aquatic Resource Conservation, U.S. Fish and Wildlife Service, 4401 North Fairfax Drive, Arlington, VA 22203, during regular business hours, Monday through Friday. You may also view the minutes on the ANS Task Force Web site at: http://anstaskforce.gov/meetings.php.

FOR FURTHER INFORMATION CONTACT: Susan Mangin, Executive Secretary, ANS Task Force, by phone at (703) 358-2466, or by e-mail at Susan_Mangin@fws.gov.

SUPPLEMENTARY INFORMATION: Under section 10(a)(2) of the Federal Advisory Committee Act (5 U.S.C. App.), this notice announces meetings of the ANS Task Force. The ANS Task Force was established by the Nonindigenous Aquatic Nuisance Prevention and Control Act of 1990 (Pub. L. 106-580, as amended).

Topics that the ANS Task Force plans to cover during the meeting include: Regional Panel issues and recommendations, updates on ANSTF-approved species management and control plans, vector management, and consideration for approval of State ANS management plans. The agenda and other related meeting information are on the ANS Task Force Web site at: http://anstaskforce.gov/meetings.php.

Dated: September 24, 2010.
Bryan Arroyo,
Co-Chair, Aquatic Nuisance Species Task Force, Assistant Director—Fisheries & Habitat Conservation.

[FR Doc. 2010-24807 Filed 10-1-10; 8:45 am]

BILLING CODE 4310-55-P